DEPARTMENT OF COMMERCE

International Trade Administration

[A-570-922]

Raw Flexible Magnets From the People's Republic of China: Rescission of Antidumping Duty Administrative Review; 2016-2017

AGENCY: Enforcement and Compliance, International Trade Administration, Department of Commerce.

SUMMARY: The Department of Commerce (Commerce) is rescinding its administrative review of raw flexible magnets from the People's Republic of China (China) based on the timely withdrawal of all requests for review, for the period of review (POR) September 1, 2016, through August 31, 2017.

DATES: Applicable May 23, 2018.

FOR FURTHER INFORMATION CONTACT: Ariela Garvett or Maliha Khan, AD/CVD Operations, Office IV, Enforcement and Compliance, International Trade Administration, U.S. Department of Commerce, 1401 Constitution Avenue NW, Washington, DC 20230; telephone: (202) 482-3609 and (202) 482-0895, respectively.

SUPPLEMENTARY INFORMATION:

Background

On September 1, 2017, Commerce published in the Federal Register a notice of “Opportunity to Request Administrative Review” of the antidumping duty order on raw flexible magnets from China for the above POR.¹ On October 2, 2017, in accordance with section 751(a) of the Tariff Act of 1930, as amended (the Act), and 19 CFR 351.213(b), Commerce received a timely request from Qwik Picz Photo Booth, LLC (QPP) to conduct an administrative review.²

¹ See Antidumping or Countervailing Duty Order, Finding, or Suspended Investigation; Opportunity to Request Administrative Review, 82 FR 41595 (September 1, 2017).

² See Letter from QPP, “Raw Flexible Magnets from the PRC; A-570-922; Request for Review by Qwik Picz Photo Booth, LLC,” dated October 2, 2017.

Pursuant to this request, and in accordance with 19 CFR 351.221(c)(1)(i), on November 13, 2017, Commerce published a notice of initiation of an administrative review of the antidumping duty order on raw flexible magnets from China.³ This administrative review covers QPP's suppliers, Som International Limited and Wenzhou Haibao Printing Co., LTD, during the period September 1, 2016, through August 31, 2017. On January 16, 2018, QPP withdrew its request for an administrative review.⁴

³ See Initiation of Antidumping and Countervailing Duty Administrative Reviews, 82 FR 52268 (November 13, 2017) (Initiation Notice).

⁴ See Letter from QPP, “Raw Flexible Magnets from the PRC; A-570-922; Withdraw Request for Review by Qwik Picz Photo Booth, LLC,” dated January 16, 2018.

Rescission of Review

Pursuant to 19 CFR 351.213(d)(1), Commerce will rescind an administrative review if the party that requested the review withdraws its request within 90 days of the publication date of the notice of initiation of the requested review. QPP withdrew its review request with respect to Som International Limited and Wenzhou Haibao Printing Co., LTD, before the 90-day deadline, and no other party requested an administrative review of the antidumping duty order. Therefore, in accordance with 19 CFR 351.213(d)(1), we are rescinding this administrative review in its entirety.

Assessment

Commerce will instruct U.S. Customs and Border Protection (CBP) to assess antidumping duties on all appropriate entries of raw flexible magnets from China. Antidumping duties shall be assessed at rates equal to the cash deposit of estimated antidumping duties required at the time of entry, or withdrawal from warehouse, for consumption in accordance with 19 CFR 351.212(c)(1)(i). Commerce intends to issue appropriate assessment instructions to CBP 15 days after the date of publication of this notice in the Federal Register.

Notification to Importers

This notice also serves as a final reminder to importers for whom this review is being rescinded of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Order

This notice also serves as a reminder to parties subject to administrative protective orders (APO) of their responsibility concerning the disposition of proprietary information disclosed under APO in accordance with 19 CFR 351.305. Timely written notification of the return/destruction of APO materials or conversion to judicial protective order is hereby requested. Failure to comply with the regulations and terms of an APO is a violation which is subject to sanction.

This notice is published in accordance with section 751(a)(1) and 777(i)(1) of the Act, and 19 CFR 351.213(d)(4).

Dated: May 9, 2018.
James Maeder,
Associate Deputy Assistant Secretary for Antidumping and Countervailing Duty Operations, performing the duties of Deputy Assistant Secretary for Antidumping and Countervailing Duty Operations.

[FR Doc. 2018-10564 Filed 5-22-18; 8:45 am]

BILLING CODE 3510-DS-P